SECURITIES AND EXCHANGE COMMISSION

[Release No. 34-93767A; File No. SR-NYSE-2021-52]

Self-Regulatory Organizations; New York Stock Exchange LLC; Notice of Filing and Immediate Effectiveness of Proposed Rule Change To Amend Section 902.03 of the NYSE Listed Company Manual To Modify Listing and Annual Fees Applicable to Certain Warrants Listed by Foreign Companies; Correction

December 14, 2021.

AGENCY: Securities and Exchange Commission.

ACTION: Notice; correction.

SUMMARY: The Securities and Exchange Commission published a document in the Federal Register on December 20, 2021, concerning a Notice of Filing and Immediate Effectiveness of Proposed Rule Change to Amend Section 902.03 of the NYSE Listed Company Manual to Modify Listing and Annual Fees Applicable to Certain Warrants Listed by Foreign Companies. The document contained a typographical error in the release number.

FOR FURTHER INFORMATION CONTACT: Naomi P. Lewis, Office of the Secretary, Securities and Exchange Commission, 100 F Street NE, Washington, DC 20549, (202) 551-5400.

Correction

In the Federal Register of December 20, 2021 in FR Doc. 2021-27417, on page 72016, in the first and second line in the subheading under the heading “SECURITIES AND EXCHANGE COMMISSION” in the third column, correct the reference to “Release No. 34-NYSE-2021-52; File No. SR-NYSE-2021-52” instead to “Release No. 34-93767; File No. SR-NYSE-2021-52.”

Dated: December 21, 2021.
J. Matthew DeLesDernier,
Assistant Secretary.

[FR Doc. 2021-28127 Filed 12-27-21; 8:45 am]

BILLING CODE 8011-01-P